DEPARTMENT OF AGRICULTURE

National Agricultural Statistics Service

Notice of Intent to Extend and Revise a Currently Approved Information Collection

AGENCY: National Agricultural Statistics Service, USDA.

ACTION: Notice and request for comments.

SUMMARY: In accordance with the Paperwork Reduction Act of 1995 (Pub. L. 104-13) and Office of Management and Budget regulations at 5 CFR part 1320 (60 FR 44978, August 29, 1995), this notice announces the intent of the National Agricultural Statistics Service (NASS) to extend and revise a currently approved information collection, the List Sampling Frame.

DATES: Comments on this notice must be received by July 7, 2000 to be assured of consideration.

ADDITIONAL INFORMATION OR COMMENTS: Contact Rich Allen, Associate Administrator, National Agricultural Statistics Service, U.S. Department of Agriculture, 1400 Independence Avenue SW, Room 4117 South Building, Washington, DC 20250-2000, (202) 720-4333.

SUPPLEMENTARY INFORMATION: Title: List Sampling Frame.

OMB Number: 0535-0140.

Expiration Date of Approval: July 31, 2000.

Type of Request: Intent to extend and revise a currently approved information collection.

Abstract: The primary objectives of the National Agricultural Statistics Service are to prepare and issue state and national estimates of crop production, livestock production, economic statistics, and environmental statistics related to agriculture and also to conduct the Census of Agriculture.

The List Sampling Frame is used to maintain as complete a list as possible of farm operations. The goal is to produce for each state a relatively complete, current, and unduplicated list of names to sample for agricultural operation surveys. Information from these surveys is used by government agencies and educational institutions in planning, farm policy analysis, and program administration.

These data will be collected under the authority of 7 U.S.C. 2204(a). Individually identifiable data collected under this authority are governed by Section 1770 of the Food Security Act of 1985, 7 U.S.C. 2276, which requires USDA to afford strict confidentiality to non-aggregated data provided by respondents.

Estimate of Burden: Public reporting burden for this collection of information is estimated to average 3 minutes per response.

Respondents: Farms.

Estimated Number of Respondents: 325,000.

Estimated Total Annual Burden on Respondents: 16,670 hours.

Copies of this information collection and related instructions can be obtained without charge from Ginny McBride, the Agency OMB Clearance Officer, at (202) 720-5778.

COMMENTS: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to: Ginny McBride, Agency OMB Clearance Officer, U.S. Department of Agriculture, 1400 Independence Avenue SW, Room 4162 South Building, Washington, DC 20250-2000.

All responses to this notice will become a matter of public record and be summarized in the request for OMB approval.

Signed at Washington, DC, March 24, 2000.
Rich Allen,
Associate Administrator.

[FR Doc. 00-11052 Filed 5-2-00; 8:45 am]

BILLING CODE 3410-20-P